ENVIRONMENTAL PROTECTION AGENCY

40 CFR Part 52

[SC-2017; FRL-9974-17—Region 4]

Air Plan Approval; South Carolina; Update to Materials Incorporated by Reference

AGENCY: Environmental Protection Agency (EPA).

ACTION: Final rule; notification of administrative change.

SUMMARY: The Environmental Protection Agency (EPA) is updating the materials that are incorporated by reference (IBR) into the South Carolina state implementation plan (SIP). The regulations affected by this update have been previously submitted by South Carolina and approved by EPA. This update affects the materials that are available for public inspection at the National Archives and Records Administration (NARA) and the EPA Regional Office.

DATES: This action is effective April 5, 2018.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA requests that you email the contact listed in the FOR FURTHER INFORMATION CONTACT section.

FOR FURTHER INFORMATION CONTACT: Sean Lakeman, Air Regulatory Management Section, Air Planning and Implementation Branch, Air, Pesticides and Toxics Management Division, U.S. Environmental Protection Agency, Region 4, 61 Forsyth Street SW, Atlanta, Georgia 30303-8960. Mr. Lakeman can be reached via telephone at (404) 562-9043 or via electronic mail at lakeman.sean@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52—“Approval and Promulgation of Implementation Plans,” title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, or even change a single word. The state indicates the changes in the submission (such as, by using redline/strikethrough) and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA must periodically publish an informational document in the rules section of the Federal Register notifying the public that updates have been made to a SIP Compilation for a particular state. EPA applied the 1997 revised procedures to South Carolina on July 1, 1997 (62 FR 35441).

II. EPA Action

This action represents EPA's publication of the South Carolina SIP Compilation update, appearing in 40 CFR part 52: specifically, the materials in paragraph (c) and (d) at 40 CFR 52.2120. In addition, notice is provided of the following corrections to the table in paragraph (C) of § 52.2120, as described below:

A. Reformatting the Table by combining the “EPA approval date” and “Federal Register notice” columns and adding a new column titled “Explanation”.

B. Correcting typographical errors, state effective dates, EPA approval dates and Federal Register citations listed in the table in paragraph (c), as described below:

1. Under the “State effective date” and “EPA approval date” the 2-digit year was changed to reflect a 4-digit year (for consistency) and numerous Federal Register citations were corrected to reflect the first page of the preamble opposed to the regulatory text page.

2. Under Regulation No. 62.1, “Section IV” the State effective date was revised to read “6/27/2014” and EPA approval date was revised to read “8/21/2017, 82 FR 39537.”

3. Under Regulation No. 62.1, “Section IV” the State effective date was revised to read “6/27/2014” and EPA approval date was revised to read “8/21/2017, 82 FR 39537.”

4. Under Regulation No. 62.5, Standard No. 1, “Section VII” the entry was removed from the table because the rule was repealed.

5. Under Regulation No. 62.5, Standard No. 4, “Section II” the State effective date was revised to read “4/22/1988” and EPA approval date was revised to read “10/3/1989, 54 FR 40659.”

5. Under Regulation No. 62.5, Standard No. 4, “Section XIII” the entry was removed from the table because the rule was repealed.

6. Under Regulation No. 62.5, Standard No. 5, “Section I” the State effective date was revised to read “4/26/2013” and EPA approval date was revised to read “8/16/2017, 82 FR 38825.”

7. Under Regulation No. 62.5, Standard No. 5, Section I, “Part A” the State effective date was revised to read “4/26/2013” and EPA approval date was revised to read “8/16/2017, 82 FR 38825.”

8. Under Regulation No. 62.5, Standard No. 5, Section I, “Part G” the State effective date was revised to read “4/26/2013” and EPA approval date was revised to read “8/16/2017, 82 FR 38825.”

9. Under Regulation No. 62.5, Standard No. 5, Section II, “Part A” the entry was reinserted after inadvertently being removed, and the State effective date was revised to read “11/27/2015” and EPA approval date was revised to read “8/16/2017, 82 FR 38825.”

10. Under Regulation No. 62.5, Standard No. 5, Section II, “Part B” the State effective date was revised to read “11/27/2015” and EPA approval date was revised to read “8/16/2017, 82 FR 38825.”

11. Under Regulation No. 62.5, Standard No. 5, Section II, “Part I” the entry was removed from the table because the rule was reserved and was never approved into the SIP.

12. Under Regulation No. 62.5, Standard No. 5, Section II, “Part J” the entry was removed from the table because the rule was reserved and was never approved into the SIP.

13. Under Regulation No. 62.5, Standard No. 5, Section II, “Part K” the entry was removed from the table because the rule was reserved and was never approved into the SIP.

14. Under Regulation No. 62.5, Standard No. 5, Section II, “Part L” the entry was removed from the table because the rule was reserved and was never approved into the SIP.

15. Under Regulation No. 62.5, Standard No. 5, Section II, “Part M” the entry was removed from the table because the rule was reserved and was never approved into the SIP.

16. Under Regulation No. 62.5, Standard No. 5, Section II, “Part Q” the State effective date was revised to read “4/26/2013” and EPA approval date was revised to read “8/16/2017, 82 FR 38825.”

17. Under Regulation No. 62.5, “Standard No. 6” and subentries for “Sections I—III” the entries were removed from the table because they had previously been disapproved and the original approval rescinded from the SIP. See 60 FR 12700 (March 8, 1995). Additionally, EPA inadvertently added these sections back to the table when administrative edits were included alongside a SIP revision. See 67 FR 30594 (May 7, 2002).

18. Under Regulation No. 62.5, Standard No. 7.1, “Section I” entry was removed from the table because it had previously been consolidated into Regulation No. 62.5, Standard No. 7. See 67 FR 30594 (May 7, 2002).

19. Under Regulation No. 62.5, Standard No. 7.1, “Section II” entry was removed from the table because it had previously been consolidated into Regulation No. 62.5, Standard No. 7. See 67 FR 30594 (May 7, 2002).

20. Under Regulation No. 62.5, Standard No. 7.1, “Section III” entry was removed from the table because it had previously been consolidated into Regulation No. 62.5, Standard No. 7. See 67 FR 30594 (May 7, 2002).

21. Under Regulation No. 62.5, Standard No. 7.1, “Section IV” entry was removed from the table because it had previously been consolidated into Regulation No. 62.5, Standard No. 7. See 67 FR 30594 (May 7, 2002).

22. Footnote 1 was removed and inserted in the explanation column under Regulation No. 62.5, Standard No. 7 and Standard No. 7.1.

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and corrects typographical errors appearing in the CFR. Under section 553(b)(3)(B) of the APA, an agency may find good cause where procedures are “impracticable, unnecessary, or contrary to the public interest.” Public comment for this administrative action is “unnecessary” and “contrary to the public interest” since the codification (and typographical corrections) only reflect existing law. Immediate notice of this action in the Federal Register benefits the public by providing the public notice of the updated South Carolina SIP Compilation and notice of typographical corrections to the South Carolina “Identification of Plan” portion of the Federal Register. Further, pursuant to section 553(d)(3), making this action immediately effective benefits the public by immediately updating both the SIP compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by South Carolina and federally effective prior to October 1, 2017. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this notice of administrative change does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this notice of administrative change for the state of South Carolina does not have Tribal implications as specified by Executive Order 13175 (65 FR 67249, November 9, 2000), because it does not have substantial direct effects on an Indian Tribe. The Catawba Indian Nation Reservation is located within the South Carolina portion of the bi-state Charlotte Area. Pursuant to the Catawba Indian Claims Settlement Act, S.C. Code Ann. 27-16-120, “all state and local environmental laws and regulations apply to the [Catawba Indian Nation] and Reservation and are fully enforceable by all relevant state and local agencies and authorities.” EPA notes this action will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the South Carolina SIP compilations previously afforded interested parties the opportunity to file a petition for judicial review in the United States Court of Appeals for the appropriate circuit within 60 days of such rulemaking action. Thus, EPA believes judicial review of this action under section 307(b)(1) of the CAA is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 26, 2018.
Onis “Trey” Glenn, III,
Regional Administrator, Region 4.

40 CFR part 52 is amended as follows:

PART 52—APPROVAL AND PROMULGATION OF IMPLEMENTATION PLANS

1. The authority for citation for part 52 continues to read as follows:

Authority: 42 U.S.C. 7401 et seq.

Subpart PP—South Carolina

2. Section 52.2120 is amended by revising paragraphs (b), (c), and (d) to read as follows:

§ 52.2120 Identification of plan.

* * * * *

(b) Incorporation by reference. (1) Material listed in paragraphs (c) and (d) of this section with an EPA approval date prior to October 1, 2017 was approved for incorporation by reference by the Director of the Federal Register in accordance with 5 U.S.C. 552(a) and 1 CFR part 51. Material is incorporated as it exists on the date of the approval, and notice of any change in the material will be published in the Federal Register. Entries in paragraphs (c) and (d) of this section with EPA approval dates after October 1, 2017 will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street SW, Atlanta, GA 30303. To obtain the material, please call (404) 562-9022. You may inspect the material with an EPA approval date prior to October 1, 2017, for South Carolina at the National Archives and Records Administration. For information on the availability of this material at NARA go to: http://www.archives.gov/federal-register/cfr/ibr-locations.html.

(c) EPA Approved South Carolina Regulations.

Air Pollution Control Regulations for South Carolina
State citation | Title/subject | State effective date | EPA approval date | Explanation
Regulation No. 62.1 | Definitions and General Requirements | 6/26/1998 | 8/10/2004, 69 FR 48395
Section I | Definitions | 11/26/2010 | 4/3/2013, 78 FR 19997
Section II | Permit Requirements | 6/24/2005 | 6/2/2008, 73 FR 31369
Section III | Emission Inventory and Emissions Statement | 9/23/2016 | 5/31/2017, 82 FR 24853
Section IV | Source Tests | 6/27/2014 | 8/21/2017, 82 FR 39537
Section V | Credible Evidence | 6/27/2014 | 8/21/2017, 82 FR 39537
Regulation No. 62.2 | Prohibition of Open Burning | 6/25/2004 | 8/26/2005, 70 FR 50195
Regulation No. 62.3 | Air Pollution Episodes
Section I | Episode Criteria | 4/26/2013 | 8/21/2017, 82 FR 39541
Section II | Emission Reduction Requirements | 4/22/1988 | 10/3/1989, 54 FR 40659
Regulation No. 62.4 | Hazardous Air Pollution Conditions | 12/20/1978 | 1/29/1980, 45 FR 6572
Regulation No. 62.5 | Air Pollution Control Standards
Standard No. 1 | Emissions from Fuel Burning Operations
Section I | Visible Emissions | 10/26/2001 | 5/7/2002, 67 FR 30594
Section II | Particulate Matter Emissions | 4/22/1988 | 10/3/1989, 54 FR 40659
Section III | Sulfur Dioxide Emissions | 3/3/1983 | 10/29/1984, 49 FR 43469
Section IV | Opacity Monitoring Requirements | 4/22/1988 | 7/2/1990, 55 FR 27226
Section V | Exemptions | 5/24/1985 | 10/3/1989, 54 FR 40659
Section VI | Periodic Testing | 6/26/1998 | 8/10/2004, 69 FR 48395
Standard No. 2 | Ambient Air Quality Standards | 9/23/2016 | 6/29/2017, 82 FR 29418
Standard No. 4 | Emissions From Process Industries
Section I | General | 2/28/1986 | 2/17/1987, 52 FR 4772
Section II | Sulfuric Acid Manufacturing | 4/22/1988 | 10/3/1989, 54 FR 40659
Section III | Kraft Pulp and Paper Manufacturing Plants | 4/22/1988 | 10/3/1989, 54 FR 40659
Section IV | Portland Cement Manufacturing | 2/28/1986 | 2/17/1987, 52 FR 4772
Section V | Cotton Gins | 10/26/2001 | 5/7/2002, 67 FR 30594
Section VI | Hot Mix Asphalt Manufacturing | 5/24/1985 | 10/3/1989, 54 FR 40659
Section VII | Metal Refining | 2/28/1986 | 2/17/1987, 52 FR 4772
Section VIII | Other Manufacturing | 10/26/2001 | 5/7/2002, 67 FR 30594
Section IX | Visible Emissions | 4/22/1988 | 7/2/1990, 55 FR 27226
Section X | Non-Enclosed Operations | 4/22/1988 | 7/2/1990, 55 FR 27226
Section XI | Total Reduced Sulfur Emissions of Kraft Pulp Mills | 10/26/2001 | 5/7/2002, 67 FR 30594
Section XII | Periodic Testing | 6/26/1998 | 8/10/2004, 69 FR 48395
Standard No. 5 | Volatile Organic Compounds
Section I | General Provisions | 4/26/2013 | 8/16/2017, 82 FR 38825
Part A | Definitions | 4/26/2013 | 8/16/2017, 82 FR 38825
Part B | General Applicability | 10/26/2001 | 5/7/2002, 67 FR 30594
Part C | Alternatives and Exceptions to Control Requirements | 10/26/2001 | 5/7/2002, 67 FR 30594
Part D | Compliance Schedules | 10/26/2001 | 5/7/2002, 67 FR 30594
Part E | Volatile Organic Compound Compliance Testing | 6/26/1998 | 8/10/2004, 69 FR 48395
Part F | Recordkeeping, Reporting, Monitoring | 10/26/2001 | 5/7/2002, 67 FR 30594
Part G | Equivalency Calculations | 4/26/2013 | 8/16/2017, 82 FR 38825
Section II | Provisions for Specific Sources
Part A | Surface Coating of Cans | 11/27/2015 | 8/16/2017, 82 FR 38825
Part B | Surface Coating of Coils | 11/27/2015 | 8/16/2017, 82 FR 38825
Part C | Surface Coating of Paper, Vinyl, and Fabric | 8/24/1990 | 2/4/1992, 57 FR 4158
Part D | Surface Coating of Metal Furniture and Large Appliances | 8/24/1990 | 2/4/1992, 57 FR 4158
Part E | Surface Coating of Magnet Wire | 10/26/2001 | 5/7/2002, 67 FR 30594
Part F | Surface Coating of Miscellaneous Metal Parts and Products | 10/26/2001 | 5/7/2002, 67 FR 30594
Part G | Surface Coating of Flat Wood Paneling | 2/25/1983 | 10/31/1983, 48 FR 50078
Part H | Graphic Arts—Rotogravure Flexography | 2/25/1983 | 10/31/1983, 48 FR 50078
Part N | Solvent Metal Cleaning | 10/26/2001 | 5/7/2002, 67 FR 30594
Part O | Petroleum Liquid Storage in Fixed Roof Tanks | 2/25/1983 | 10/31/1983, 48 FR 50078
Part P | Petroleum Liquid Storage in External Floating Roof Tanks | 2/25/1983 | 10/31/1983, 48 FR 50078
Part Q | Manufacture of Synthesized Pharmaceutical Products | 4/26/2013 | 8/16/2017, 82 FR 38825
Part R | Manufacture of Pneumatic Rubber Tires | 2/25/1983 | 10/31/1983, 48 FR 50078
Part S | Cutback Asphalt | 6/13/1979 | 12/16/1981, 46 FR 61268
Part T | Bulk Gasoline Terminals and Vapor Collection Systems | 2/25/1983 | 10/31/1983, 48 FR 50078
Standard No. 5.2 | Control of Oxides of Nitrogen (NOX) | 6/25/2004 | 8/26/2005, 70 FR 50195
Standard No. 7 | Prevention of Significant Deterioration | 6/26/2015 | 8/10/2017, 82 FR 37299 | EPA did not take action on the version of Regulation 61-62.5, Standard No. 7, paragraph (b)(32)(i)(a) state effective on December 27, 2013, included in a SIP revision submitted by the State on April 10, 2014, because this version contains changes to a phrase regarding ethanol production facilities that is not in the SIP. South Carolina submitted a SIP revision on April 14, 2009, that includes the phrase “except ethanol production facilities producing ethanol by natural fermentation under the North American Industry Classification System (NAICS) codes 325193 or 312140,” as amended in the Ethanol Rule (May 1, 2007), at Standard No. 7, paragraphs (b)(32)(i)(a), (b)(32)(iii)(b)(t), and (i)1(vii)(t) and at Standard No. 7.1, paragraphs (c)7(C)(xx) and (e)(T). EPA has not taken action to approve that portion of the April 14, 2009, SIP revision and incorporate this phrase into the SIP. The version of Standard No. 7, paragraphs (b)(32)(i)(a), (b)(32)(iii)(b)(t), and (i)1(vii)(t) and Standard No. 7.1, paragraphs (c)(7)(C)(xx) and (e)(T) was state effective on June 24, 2005 and conditionally approved by EPA on June 2, 2008, and were fully approved on June 23, 2011.
Standard No. 7.1 | Nonattainment New Source Review | 11/27/2015 | 8/10/2017, 82 FR 37299 | EPA did not take action on the version of Regulation 61-62.5, Standard No. 7, paragraph (b)(32)(i)(a) state effective on December 27, 2013, included in a SIP revision submitted by the State on April 10, 2014, because this version contains changes to a phrase regarding ethanol production facilities that is not in the SIP. South Carolina submitted a SIP revision on April 14, 2009, that includes the phrase “except ethanol production facilities producing ethanol by natural fermentation under the North American Industry Classification System (NAICS) codes 325193 or 312140,” as amended in the Ethanol Rule (May 1, 2007), at Standard No. 7, paragraphs (b)(32)(i)(a), (b)(32)(iii)(b)(t), and (i)1(vii)(t) and at Standard No. 7.1, paragraphs (c)7(C)(xx) and (e)(T). EPA has not taken action to approve that portion of the April 14, 2009, SIP revision and incorporate this phrase into the SIP. The version of Standard No. 7, paragraphs (b)(32)(i)(a), (b)(32)(iii)(b)(t), and (i)1(vii)(t) and Standard No. 7.1, paragraphs (c)(7)(C)(xx) and (e)(T) was state effective on June 24, 2005 and conditionally approved by EPA on June 2, 2008, and were fully approved on June 23, 2011.
Regulation No. 62.6 | Control of Fugitive Particulate Matter | 5/24/1985 | 10/3/1989, 54 FR 40659
Section I | Control of Fugitive Particulate Matter in Non-Attainment Areas | 11/27/2015 | 8/21/2017, 82 FR 39541
Section II | Control of Fugitive Particulate Matter in Problem Areas | 5/24/1985 | 10/3/1989, 54 FR 40659
Section III | Control of Fugitive Particulate Matter Statewide | 12/27/2013 | 8/21/2017, 82 FR 39541
Section IV | Effective Date | 5/24/1985 | 10/3/1989, 54 FR 40659
Regulation No. 62.7 | Good Engineering Practice Stack Height | 5/23/1986 | 5/28/1987, 52 FR 19858
Section I | General | 5/23/1986 | 5/28/1987, 52 FR 19858
Section II | Applicability | 5/23/1986 | 5/28/1987, 52 FR 19858
Section III | Definitions and Conditions | 5/23/1986 | 5/28/1987, 52 FR 19858
Section IV | Public Participation | 5/23/1986 | 5/28/1987, 52 FR 19858
Regulation No. 62.96 | Nitrogen Oxides (NOX) and Sulfur Dioxide (SO2) Budget Trading Program General Provisions | 10/24/2008 | 10/16/2009, 74 FR 53167
Regulation No. 62.97 | Cross-State Air Pollution Rule (CSAPR) Trading Program | 8/25/2017 | 10/13/2017, 82 FR 47939
Regulation No. 62.99 | Nitrogen Oxides (NOX) Budget Program Requirements for Stationary Sources Not in the Trading Program | 5/24/2002 | 6/28/2002, 67 FR 43546
S.C. Code Ann. | Ethics Reform Act
Section 8-13-100(31) | Definitions | 1/1/1992 | 8/1/2012, 77 FR 45492
Section 8-13-700(A) and (B) | Use of official position or office for financial gain; disclosure of potential conflict of interest | 1/1/1992 | 8/1/2012, 77 FR 45492
Section 8-13-730 | Membership on or employment by regulatory agency of person associated with regulated business | 1/1/1992 | 8/1/2012, 77 FR 45492

(d) EPA-Approved State Source-Specific Requirements.

EPA-Approved South Carolina State Source-Specific Requirements
Name of source | Permit No. | State effective date | EPA approval date | Comments
Transcontinental Gas Pipeline Corporation Station 140 | 2060-0179-CD | 4/27/2004 | 4/23/2009, 74 FR 18471 | This permit is incorporated in fulfillment of the NOX SIP Call Phase II requirements for South Carolina.

* * * * *

[FR Doc. 2018-06796 Filed 4-4-18; 8:45 am]

BILLING CODE 6560-50-P